INTERNATIONAL TRADE COMMISSION

[Investigation Nos. 731-TA-474 and 475 (Review)]

Chrome-Plated Lug Nuts From China and Taiwan

Determinations

On the basis of the record ¹ developed in these subject five-year reviews, the United States International Trade Commission determines, pursuant to section 751(c) of the Tariff Act of 1930 (19 U.S.C. § 1675(c)) (the Act), that revocation of the antidumping duty orders on chrome-plated lug nuts from China and Taiwan would not be likely to lead to continuation or recurrence of material injury to an industry in the United States within a reasonably foreseeable time.

¹ The record is defined in sec. 207.2(f) of the Commission's Rules of Practice and Procedure (19 CFR 207.2(f)).

Background

The Commission instituted these reviews on August 2, 1999 (64 FR 41949) and determined on March 22, 2000, that it would conduct full reviews (65 FR 16632, March 29, 2000). Notice of the scheduling of the Commission's reviews and of a public hearing to be held in connection therewith was given by posting copies of the notice in the Office of the Secretary, U.S. International Trade Commission, Washington, DC, and by publishing the notice in the Federal Register on June 14, 2000 (65 FR 37408). The hearing, originally scheduled for August 31, 2000, was canceled due to lack of interest by the parties.

The Commission transmitted its determinations in these investigations to the Secretary of Commerce on October 25, 2000. The views of the Commission are contained in USITC Publication 3362 (October 2000), entitled Chrome-Plated Lug Nuts from China and Taiwan: Investigations Nos. 731-TA-474 and 475 (Review).

Issued: October 31, 2000.
By order of the Commission.
Donna R. Koehnke,
Secretary.

[FR Doc. 00-28394 Filed 11-3-00; 8:45 am]

BILLING CODE 7020-02-P